DEPARTMENT OF TRANSPORTATION

Federal Aviation Administration

[Summary Notice No. PE-2000-17]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before May 31, 2000.

ADDRESSES: Send comments on any petition in triplicate to: Federal Aviation Administration, Office of the Chief Counsel, Attn: Rule Docket (AGC-200, Petition Docket No. ______, 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Venessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC., on May 5, 2000.
Donald P. Byrne,
Assistant Chief Counsel for Regulations.

Petitions for Exemption

Docket No.: 29900.

Petitioner: Atlantic Coast Airlines and Trans State Airlines.

Section of the FAR Affected: 14 CFR 121.344(d)(1).

Description of Relief Sought: To permit ASA and TSA to operate its Jetstream-41 (J-41) aircraft without meeting the requirements of 14 CFR 121.344(d)(1).

Docket No.: 29941.

Petitioner: Hawaiian Airlines, Inc.

Section of the FAR Affected: 14 CFR 25.857(c), 25.858, 121.314(c).

Description of Relief Sought: To allow Hawaiian Airlines to operate, until May 15, 2001, one DC10-10 airspace beyond the cargo compartment modification deadline of March 30, 2001.

Docket No.: 29981.

Petitioner: Delta Air Lines, Inc.

Section of the FAR Affected: 14 CFR 25.857(c), 25.858, 121.314(c).

Description of Relief Sought: To permit Delta Air Lines to operate, until September 20, 2001, nine L-1011 airplanes beyond the cargo compartment modification deadline of March 19, 2001.

Dispositions of Petitions

Docket No.: 28419.

Petitioner: United Parcel Service.

Section of the FAR Affected: 14 CFR 121.433(c)(1)(iii), 121.440(s), 121.441(a)(1) and (b)(1), and appendix F to part 121.

Description of Relief Sought/Disposition: To permit UPS to combine recurrent flight and ground training and proficiency checks for UPS's pilots in command, seconds in command, and flight engineers in a single annual training and proficiency evaluation program.

Grant, 04/06/2000, Exemption No. 6434B.

Docket No.: 29883.

Petitioner: Embry-Riddle Aeronautical University.

Section of the FAR Affected: 14 CFR 61.65(a)(1).

Description of Relief Sought/Disposition: To permit ERAU to permit students enrolled in ERAU's AGATE III to take concurrently the private pilot and instrument rating practical test, subject to certain conditions and limitations.

Grant, 04/14/2000, Exemption No. 7168.

Docket No.: 29930.

Petitioner: Gulfshore Helicopters.

Section of the FAR Affected: 14 CFR 135.143(c)(2).

Description of Relief Sought/Disposition: To permit Gulfshore to operate certain aircraft under part 135 without a TSO-C112 (Mode S) transponder installed in the aircraft.

Grant, 03/24/2000, Exemption No. 7155.

Docket No.: 28434.

Petitioner: Mercy Air Service, Inc.

Section of the FAR Affected: 14 CFR 135.143(c)(2).

Description of Relief Sought/Disposition: To permit Mercy Air Service to operate certain aircraft under part 135 without a TSO-C112 (Mode S) transponder installed in the aircraft.

Grant, 03/27/2000, Exemption No. 6769A.

Docket No.: 29782.

Petitioner: Mr. Roy Earnest Duckworth.

Section of the FAR Affected: 14 CFR 61.129(c)(4)(ii).

Description of Relief Sought/Disposition: To permit Mr. Duckworth to obtain a commercial pilot certificate with a rotorcraft category and helicopter class rating without accomplishing the requirement for 5 hours of solo night flying, subject to certain conditions and limitations.

Grant, 04/04/2000, Exemption No. 7165.

Docket No.: 29195.

Petitioner: Premium Jets, Inc.

Section of the FAR Affected: 14 CFR 135.143(c)(2).

Description of Relief Sought/Disposition: To permit Premier Jets to operate certain aircraft under part 135 without a TSO-C112 (Mode S) transponder installed in the aircraft.

Grant, 03/27/2000, Exemption No. 7160.

Docket No.: 29737.

Petitioner: Air Jamaica Limited.

Section of the FAR Affected: 14 CFR 145.47(b).

Description of Relief Sought/Disposition: To permit Air Jamaica to use the calibration standards of the Jamaica Bureau of Standards rather than the calibration standards of the NIST, formerly the NBS, to test its inspection and test equipment, subject to certain conditions and limitations.

Grant, 03/20/2000, Exemption No. 7152.

Docket No.: 28144.

Petitioner: Perris Valley Skydiving.

Section of the FAR Affected: 14 CFR 105.43(a).

Description of Relief Sought/Disposition: To permit nonstudent parachutists who are foreign nationals to participate in PVS-sponsored events without complying with the parachute equipment and packing requirements of § 105.43(a).

Grant, 03/29/2000, Exemption No. 6745A.

Docket No.: 29913.

Petitioner: Franklin County Sport Parachute Center, Inc., dba Carolina Sky Sports.

Section of the FAR Affected: 14 CFR 105.43(a).

Description of Relief Sought/Disposition: To permit CSS to allow nonstudent parachutists who are foreign nationals to use parachutes that do not meet the requirements of 105.43(a), subject to certain conditions and limitations.

Grant, 03/21/2000, Exemption No. 7175.

Docket No.: 29949.

Petitioner: Air Transport International, L.L.C.

Section of the FAR Affected: 14 CFR 121.310(d)(4).

Description of Relief Sought/Disposition: To permit ATI to operate its DC-8 airplanes in passenger-carrying operations without a cockpit control device for each emergency light, subject to certain conditions and limitations.

Grant, 03/29/2000, Exemption No. 7156.

Docket No.: 29985.

Petitioner: Alpha Aviation, Inc.

Section of the FAR Affected: 14 CFR 135.143(c)(2).

Description of Relief Sought/Disposition: To permit Alpha Aviation to operate certain aircraft under part 135 without a TSO-C112 (Mode S) transponder installed in the aircraft.

Grant, 04/07/2000, Exemption No. 7164.

Docket No.: 29853.

Petitioner: JRG Design Inc.

Section of the FAR Affected: 14 CFR 25.857(e).

Description of Relief Sought/Disposition: To permit supplemental type certification of DC-10-30F and -40F freighter airplanes with a Class E cargo compartment, with accommodations for up to two supernumeraries immediately aft of the cockpit as proposed, to include the airplane being equipped as proposed with two floor-level emergency exists with escape slide/rafts subject to several conditions.

Grant, 04/03/2000, Exemption No. 7161.

Docket No.: 28118.

Petitioner: King Airlines.

Section of the FAR Affected: 14 CFR 135.143(c)(2).

Description of Relief Sought/Disposition: To permit King Airlines to operate certain aircraft under part 135 without a TSO-C112 (Mode S) transponder installed in the aircraft.

Grant, 03/30/2000, Exemption No. 6093B.

Docket No.: 29496.

Petitioner: Blue Mountain Air dba Blue Mountain Lodge.

Section of the FAR Affected: 14 CFR 43.3(a) and (g), and paragraph c of appendix A to part 43.

Description of Relief Sought/Disposition: To permit BML's pilots to perform the preventative maintenance functions listed in paragraph c of appendix A to part 43 on an aircraft operated under 14 CFR part 135.

Denial, 03/21/2000, Exemption No. 7158.

Docket No.: 29483.

Petitioner: Jackson Police Department.

Section of the FAR Affected: 14 CFR 61.195(g)(1), 91.109(a).

Description of Relief Sought/Disposition: To permit Jackson PD pilots in training to use public aircraft to log the aeronautical experience required by § 61.39 to take the practical test for issuance of a pilot certificate and aircraft rating.

Denial, 02/28/2000, Exemption No. 7133.

Docket No.: 29842.

Petitioner: Mr. Lawrence M. Schilling.

Section of the FAR Affected: 14 CFR 121.383(c).

Description of Relief Sought/Disposition: To permit Mr. Schilling to act as a pilot in-operations conducted under part 121 after reaching his 60th birthday.

Denial, 04/04/2000, Exemption No. 7166.

[FR Doc. 00-11712 Filed 5-9-00; 8:45 am]

BILLING CODE 4910-13-M